DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held November 13-15, 2001 starting at 9:00 am each day.

ADDRESSES: The meeting will be held at RTCA, Inc., 1828 L Street, NW., Suite 805, Washington, DC, 20036.

FOR FURTHER INFORMATION CONTACT: (1) RTCA Secretariat, 1828 L Street, SW., Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 172 meeting. The agenda will include:

• November 13:

• Opening Plenary Session (Welcome and Introductory Remarks, Review of Agenda, Review Summary of Previous Meeting)

• Form Working Group 2: Begin Review of Minimum Aviation System Performance Standard (MASPS) work to be done

• Form Working Group 3: VHF Data Link 2 Minimum Operational Performance Standard (MOPS) work

• November 14:

• Working Group 3: VHF Data Link 2 MOPS work continues

• November 15:

• Plenary Reconvenes (Review Status of Working Groups 2 and 3: Voice Data Link [VDL] Mode 2 and Mode 3 MOPS)

• Review of Relevant International Activities (AMCP Working Groups, Working Group 47 Status and Issues)

• Report on Digital Activities (NEXCOM, AEEC status, Others as appropriate)

• Closing Plenary Session (Other Business, Date and Place of Next Meeting, Working Group 3 continues as required, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 25, 2001.
Janice L. Peters,
FAA Special Assistant, RTCA Advisory Committee.

[FR Doc. 01-27293 Filed 10-29-01; 8:45 am]

BILLING CODE 4910-13-M